DEPARTMENT OF AGRICULTURE

Submission for OMB Review; Comment Request

January 31, 2019.

The Department of Agriculture has submitted the following information collection requirement(s) to OMB for review and clearance under the Paperwork Reduction Act of 1995, Public Law 104-13. Comments are required regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by March 7, 2019 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: 2017 Wildfires and Hurricanes Indemnity Program (2017 WHIP) and Citrus Trees Block Grant to Florida.

OMB Control Number: 0560-0291.

Summary of Collection: The Bipartisan Budget Act of 2018 (BBA, Pub. L. 115-123) authorized $2.36 billion in assistance for losses to crops, trees, bushes, and vine losses due to 2017 wildfires and hurricanes. The Farm Service Agency (FSA) is implementing the provisions of the BBA by providing up to $2 billion in assistance to eligible producers through the 2017 WHIP, and approximately $340 million through a block grant with the State of Florida to address losses to citrus trees, and production.

Need and Use of the Information: In order for FSA to determine whether a producer is eligible for 2017 WHIP and to calculate a payment, a producer is required to submit FSA-890 2017, WHIP application; FSA-891, Crop Insurance and/or NAP Coverage Agreement; FSA-892, Request for an Exception to the WHIP Payment Limitation (if applicable); FSA-893, 2018 Citrus Actual Production History and Approved Yield Record (Florida Only); CCC-902, Farm Operating Plan for Payment Eligibility; FSA-578, Report of Acreage; and AD-1026, Highly Erodible Land Conservation (HELC) and Wetland Conservation Certification. The information collected from the forms will be used by FSA and the State of Florida to determine eligibility and distribute payments to eligible producers under WHIP.

Description of Respondents: Farms; State, Local and Tribal Government.

Number of Respondents: 44,124.

Frequency of Responses: Recordkeeping; Annually.

Total Burden Hours: 29,611.

Ruth Brown,
Departmental Information Collection Clearance Officer.

[FR Doc. 2019-01058 Filed 2-4-19; 8:45 am]

BILLING CODE 3410-05-P